FEDERAL RETIREMENT THRIFT INVESTMENT BOARD

Sunshine Act; Notice of Meeting

Time and Date: 9 a.m. (Eastern Time), September 17, 2007.

Place: 4th Floor Conference Room, 1250 H Street, NW., Washington, DC 20005.

Status: Parts will be open to the public and parts closed to the public.

Matters To Be Considered

Parts Open to the Public

1. Approval of the minutes of the August 20, 2007 Board member meeting.

2. Thrift Savings Plan activity report by the Executive Director.

a. Monthly Participant Activity Report.

b. Monthly Investment Performance Report.

c. Legislative Report.

3. Increasing Decimal Places in Fund Prices.

4. Business Assurance and IT Infrastructure.

5. Annual Budget Report.

a. Fiscal Year 2007 Results.

b. Fiscal Year 2008 Budget.

c. Fiscal Year 2009 Estimate.

Parts Closed to the Public

6. Personnel.

Contact Person for More Information: Thomas J. Trabucco, Director, Office of External Affairs, (202) 942-1640.

Dated: August 31, 2007.
Thomas K. Emswiler,
Secretary to the Board, Federal Retirement Thrift Investment Board.

[FR Doc. 07-4350 Filed 8-31-07; 11:45 am]

BILLING CODE 6760-01-P